DEPARTMENT OF COMMERCE

International Trade Administration

[A-570-016]

Certain Passenger Vehicle and Light Truck Tires From the People's Republic of China: Final Results of Antidumping Duty Administrative Review and Final Determination of No Shipments; 2022-2023

AGENCY: Enforcement and Compliance, International Trade Administration, Department of Commerce.

SUMMARY: The U.S. Department of Commerce (Commerce) determines that the exporters of passenger vehicle and light truck tires (passenger tires) from the People's Republic of China (China) listed in the “Final Results of Review” section below, sold subject merchandise at less than normal value during the period of review (POR), August 1, 2022, through July 31, 2023. Further, we also determine that certain companies under review had no shipments of subject merchandise to the United States during the POR.

DATES: Applicable May 7, 2025.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On September 11, 2024, we published the Preliminary Results and invited interested parties to comment.¹ On December 9, 2024, Commerce tolled certain deadlines in this administrative proceeding by 90 days.² On April 2, 2025, Commerce extended the deadline of the final results of this administrative review to April 30, 2025, in accordance with section 751(a)(3)(A) of the Tariff Act of 1930, as amended (the Act), and 19 CFR 351.213(h)(2).³ For details regarding the events that occurred since the Preliminary Results, see the Issues and Decision Memorandum.⁴

¹ See Certain Passenger Vehicle and Light Truck Tires from the People's Republic of China: Preliminary Results and Partial Rescission of Antidumping Duty Administrative Review; 2022-2023, 89 FR 73628 (September 11, 2024) (Preliminary Results), and accompanying Preliminary Decision Memorandum (PDM).

² See Memorandum, “Tolling of Deadlines for Antidumping and Countervailing Duty Proceedings,” dated December 9, 2024.

³ See Memorandum, “Extension of Deadline for Final Results of 2022-2023 Antidumping Duty Administrative Review,” dated April 2, 2025.

⁴ See Memorandum, “Issues and Decision Memorandum for the Final Results of the Antidumping Duty Administrative Review of Certain Passenger Vehicle and Light Truck Tires from the People's Republic of China and Final Determination of No Shipments; 2022-2023,” dated concurrently with, and hereby adopted by, this notice (Issues and Decision Memorandum).

Scope of the Order ⁵

⁵ See Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

The products covered by this Order are certain passenger vehicle and light truck tires from China. For a complete description of the scope of the Order, see the Issues and Decision Memorandum.

Analysis of Comments Received

We addressed all the issues raised in the case and rebuttal briefs in the Issues and Decision Memorandum. A list of the issues that parties raised is provided in Appendix I of this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly https://access.trade.gov/public/FRNoticesListLayout.aspx.

Changes Since the Preliminary Results

Based on comments received from interested parties regarding the Preliminary Results, we have made certain changes to the margin calculations for Zhaoqing Junhong Co., Ltd (Junhong). For a discussion of these changes, see the Issues and Decision Memorandum.

Final Determination of No Shipments

In the Preliminary Results, we determined that the following companies did not have shipments of subject merchandise during the POR: (1) Prinx Chengshan (Shandong) Tire Company Ltd.; (2) Shandong Qilun Rubber Co., Ltd; (3) Shandong Changfeng Tyres Co., Ltd.; (4) Qingdao Nexen Tire Corporation; and (5) Shandong Transtone Tyre Co., Ltd.⁶ We continue to find that each of the above-listed companies had no shipments of subject merchandise during the POR and we will issue appropriate liquidation instructions consistent with our “automatic assessment” clarification for these final results.⁷

⁶ See Preliminary Results, 89 FR at 73631.

⁷ See Non-Market Economy Antidumping Proceedings: Assessment of Antidumping Duties, 76 FR 65694 (October 24, 2011) (Non-Market Economy Assessment Notice).

Separate Rates

In the Preliminary Results, we found that Shandong Hongsheng Rubber Technology Co., Ltd. (Shandong Hongsheng) and Shandong Haohua Tire Co., Ltd. (Shandong Haohua) did not establish their eligibility for a separate rate.⁸ Moreover, we determined that seven other companies under review did not establish their eligibility for a separate rate because they failed to provide either a separate rate application, a separate rate certification, or a no-shipment certification (if they were already eligible for a separate rate).⁹ As such, we preliminarily determined that Shandong Hongsheng, Shandong Haohua, and these seven other companies are part of the China-wide entity. No party filed comments on these determinations in the Preliminary Results. Therefore, for the final results, we continue to find that these nine companies are part of the China-wide entity. See Appendix II for a list of these nine companies.

⁸ See Preliminary Results PDM at 10.

⁹ Id. at 11.

In the Preliminary Results, we determined that: (1) Junhong; (2) Jiangsu General Science Technology Co., Ltd. (Jiangsu General); (3) Qingdao Transamerica Tire Industrial Co., Ltd. (Qingdao Transamerica); and (4) Winrun Tyre Co., Ltd. (Winrun) demonstrated their eligibility for a separate rate in this review.¹⁰ No party filed comments on these determinations in the Preliminary Results. Therefore, we made no changes to our preliminary separate rate findings regarding them, and we continue to find that Junhong, Jiangsu General, Qingdao Transamerica, and Winrun have demonstrated their eligibility for a separate rate in this review.

¹⁰ Id. at 10.

Finally, we also stated in the Preliminary Results that we intended to request further information regarding whether Shandong Linglong Tyre Co., Ltd. (Shandong Linglong) had reviewable entries during the POR.¹¹ On December 11, 2024, we released additional CBP entry data related to Shandong Linglong and provided interested parties an opportunity to comment.¹² On December 18, 2024, we received comments from the petitioner,¹³ stating that Commerce should not rescind the administrative review of Shandong Linglong.¹⁴ Based on information Shandong Linglong provided in its separate rate application, in its comments on our intent to rescind memorandum,¹⁵ the additional CBP entry data, and the petitioner's comments, we determine that Shandong Linglong had reviewable entries during the POR and is subject to this administrative review. Moreover, we find that Shandong Linglong has demonstrated its eligibility for a separate rate in this review.¹⁶

¹¹ Id., 89 FR at 73629.

¹² See Memorandum, “U.S. Customs Entries,” dated December 11, 2024.

¹³ The petitioner is the United Steel, Paper and Forestry, Rubber, Manufacturing, Energy, Allied Industrial and Service Workers International Union, AFL-CIO, CLC.

¹⁴ See Petitioner's Letter, “Petitioner's Comments on Shandong Linglong's Entries,” dated December 18, 2024.

¹⁵ See Shandong Linglong's Letter, “Separate Rate Application,” dated November 21, 2023; see also Shandong Linglong's Letter, “Shandong Linglong Comments on the Department's Notice of Intent to Rescind,” dated February 5, 2024.

¹⁶ See Issues and Decision Memorandum at 5. We note that we did not receive any comments on Shandong Linglong's separate rate application.

The China-Wide Entity

Commerce's policy regarding conditional review of the China-wide entity applies to this administrative review.¹⁷ Under this policy, the China-wide entity will not be under review unless a party specifically requests, or Commerce self-initiates, a review of the entity. Because no party requested a review of the China-wide entity, the entity is not under review, and the entity's rate (i.e., 76.46 percent) ¹⁸ is not subject to change.

¹⁷ See Antidumping Proceedings: Announcement of Change in Department Practice for Respondent Selection in Antidumping Duty Proceedings and Conditional Review of the Nonmarket Economy Entity in NME Antidumping Duty Proceedings, 78 FR 65963 (November 4, 2013).

¹⁸ See Order, 80 FR at 47904.

Rate for Non-Selected Separate Rate Companies

The Act and Commerce's regulations do not address what rate to apply to companies not selected for individual examination when Commerce limits its examination in an administrative review pursuant to section 777A(c)(2) of the Act. Generally, Commerce looks to section 735(c)(5) of the Act, which provides instructions for calculating the all-others rate in an investigation, for guidance when calculating the rate for non-selected companies that are not examined individually in an administrative review. Section 735(c)(5)(A) of the Act states that the all-others rate should be calculated by averaging the weighted-average dumping margins for individually examined respondents, excluding rates that are zero, de minimis, or based entirely on facts available. When the rates for individually examined companies are all zero, de minimis, or based entirely on facts available, section 735(c)(5)(B) of the Act provides that Commerce may use “any reasonable method” to establish the all-others rate. For these final results, we determined a dumping margin for the separate rate respondents using the calculate rate for the mandatory respondent, Junhong, which is not zero, de minimis, or based entirely on facts available.

Final Results of Review

Commerce determines that the following estimated weighted-average dumping margins exist for the period August 1, 2022, through July 31, 2023:

Exporter | Weighted- average dumping margin (percent)
Jiangsu General Science Technology Co., Ltd | 67.87
Qingdao Transamerica Tire Industrial Co., Ltd | 67.87
Shandong Linglong Tyre Co., Ltd | 67.87
Winrun Tyre Co., Ltd | 67.87
Zhaoqing Junhong Co., Ltd | 67.87

Disclosure

Commerce intends to disclose the calculations performed in connection with these final results to interested parties within five days of any public announcement or, if there is no public announcement, within five days after the date of publication of this notice in the Federal Register, in accordance with 19 CFR 351.224(b).

Assessment Rates

Pursuant to section 751(a)(2)(C) of the Act, and 19 CFR 351.212(b), Commerce will determine, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), because Junhong reported the entered value for its U.S. sales, we calculated importer-specific ad valorem duty assessment rates based on the ratio of the total amount of dumping calculated for the importer's examined sales to the total entered value of those sales. Where either a respondent's weighted-average dumping margin is zero or de minimis, within the meaning of 19 CFR 351.106(c)(1) of the Act, or an importer-specific rate is zero or de minimis, we will instruct CBP to liquidate appropriate entries without regard to antidumping duties.

Pursuant to Commerce's assessment practice,¹⁹ for entries that were not reported in the U.S. data submitted by Junhong, we will instruct to CBP to liquidate such entries at the China-wide rate (i.e., 76.46 percent).²⁰ Additionally, where Commerce determined that an exporter under review had no shipments of subject merchandise to the United States during the POR, any suspended entries of subject merchandise that entered under that exporter's CBP case number during the POR will be liquidated at the weighted-average dumping margin assigned to the China-wide entity.

¹⁹ See Non-Market Economy Assessment Notice, 76 FR at 65694, for a full discussion of this practice.

²⁰ See Order, 80 FR at 47906.

For respondents not individually examined in this administrative review that qualified for a separate rate, the assessment rate will be equal to the dumping margin calculated for Junhong. Finally, for the companies listed in Appendix II found to be part of the China-wide entity, we will instruct CBP to liquidate all entries of subject merchandise during the POR exported by these companies at the China-wide assessment rate of 76.46 percent.

Cash Deposit Requirements

The following cash deposit requirements will be effective for shipments of the subject merchandise entered, or withdrawn from warehouse, for consumption on or after the publication date for the final results of review, as provided for by section 751(a)(2)(C) of the Act: (1) for Junhong and the other exporters listed above that have a separate rate, the cash deposit rate will be the rate established in the final results of review (except, if the rate is zero or de minimis, then a cash deposit rate of zero will be established for that company); (2) for previously investigated or reviewed exporters not listed in the table above that have separate rates, the cash deposit rate will continue to be the existing exporter-specific rate published for the most recently-completed segment of this proceeding; (3) for all Chinese exporters of subject merchandise that have not been found to be entitled to a separate rate, the cash deposit rate will be the rate for the China-wide entity (i.e., 76.46 percent); and (4) for all exporters of subject merchandise which are not located in China and have not received their own rate, the cash deposit rate will be the rate applicable to the Chinese exporter(s) that supplied that non-China exporter. These cash deposit requirements, when imposed, shall remain in effect until further notice.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i)(1) of the Act, and 19 CFR 351.213(h)(1) and 351.221(b)(5).

Dated: April 29, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Valuation of Junhong's Rubber Input

Comment 2: Inclusion of Market-Economy Rubber Input Purchases From Affiliated Suppliers

VI. Recommendation

Appendix II

Companies Found To Be Part of the China-Wide Entity

1. Kinforest Tyre Co., Ltd.

2. Qingdao Fullrun Tyre Tech Corp., Ltd.

3. Qingdao Powerich Tyre Co., Ltd.

4. Qingdao Vitour United Corp.

5. Shandong Haohua Tire Co., Ltd.

6. Shandong Hongsheng Rubber Technology Co., Ltd.

7. Shandong Wanda Boto Tyre Co., Ltd.

8. Tianjin Wanda Tyre Group Co., Ltd.

9. Zhongce Rubber Group Company, Ltd.

[FR Doc. 2025-07926 Filed 5-6-25; 8:45 am]

BILLING CODE 3510-DS-P